SECURITIES AND EXCHANGE COMMISSION

[Release No. 34-55491A; File No. SR-CBOE-2006-95]

Self-Regulatory Organizations; Chicago Board Options Exchange, Incorporated; Notice of Filing and Order Granting Accelerated Approval of Proposed Rule Change as Modified by Amendment Nos. 1 and 2 Thereto to List for Trading Options on the Vanguard® Emerging Markets Exchange Traded Fund

March 26, 2007.

Correction

FR Doc. E7-5423, issued on March 26, 2007 on page 14145, regarding Securities Exchange Act Release No. 34-55491, incorrectly cited the date of the release as March 19, 2006. The date should read March 19, 2007.

For the Commission, by the Division of Market Regulation, pursuant to delegated authority.¹
¹ 17 CFR 200.30-3(a)(12).
Florence E. Harmon,
Deputy Secretary.

[FR Doc. E7-5986 Filed 3-30-07; 8:45 am]

BILLING CODE 8010-01-P